DEPARTMENT OF TRANSPORTATION

Coast Guard

33 CFR Part 117

[CGD01-02-018]

Drawbridge Operation Regulations: Hackensack River, NJ

AGENCY: Coast Guard, DOT.

ACTION: Notice of temporary deviation from regulations.

SUMMARY: The Commander, First Coast Guard District, has issued a temporary deviation from the drawbridge operation regulations for the Witt-Penn (Route 7) Bridge, mile 3.1, across the Hackensack River at Jersey City, New Jersey. This temporary deviation will allow the bridge to remain closed to navigation from 9 a.m. on March 5, 2002 through 6 a.m. on March 7, 2002. This temporary deviation is necessary to facilitate repairs at the bridge.

DATES: This deviation is effective from March 5, 2002 through March 7, 2002.

FOR FURTHER INFORMATION CONTACT: Joseph Schmied, Project Officer, First Coast Guard District, at (212) 668-7195.

SUPPLEMENTARY INFORMATION: The Witt-Penn (Route 7) Bridge has a vertical clearance in the closed position of 35 feet at mean high water and 40 feet at mean low water. The existing regulations are listed at 33 CFR 117.5.

The bridge owner, New Jersey Department of Transportation, has requested a temporary deviation from the drawbridge operating regulations to facilitate necessary maintenance, power and communication cable replacement, at the bridge. The nature of the required repairs will require the bridge to remain in the closed position.

During this deviation the bridge will not open for vessel traffic from 9 a.m. on March 5, 2002 through 6 a.m. on March 7, 2002.

This deviation from the operating regulations is authorized under 33 CFR 117.35, and will be performed with all due speed in order to return the bridge to normal operation as soon as possible.

Dated: February 13, 2002.
G.N. Naccara,
Rear Admiral, U.S. Coast Guard, Commander, First Coast Guard District.

[FR Doc. 02-4416 Filed 2-22-02; 8:45 am]

BILLING CODE 4910-15-U